DEPARTMENT OF AGRICULTURE

Forest Service

36 CFR Part 242

DEPARTMENT OF THE INTERIOR

Fish and Wildlife Service

50 CFR Part 100

[FWS-R7-SM-2013-N259; FXFR13350700640-145-FF07J00000]

Subsistence Management Program for Public Lands in Alaska; Western Interior Alaska Federal Subsistence Regional Advisory Council Meeting

AGENCY: Forest Service, Agriculture; Fish and Wildlife Service, Interior.

ACTION: Notice of meeting (teleconference).

SUMMARY: This document informs the public that the Western Interior Alaska Federal Subsistence Regional Advisory Council (Council) will hold a public meeting by teleconference on December 11, 2013. The public is invited to participate and to provide oral testimony. The purpose of the Council is to provide recommendations and information to the Federal Subsistence Board, to review policies and management plans, and to provide a public forum for subsistence issues.

DATES: The teleconference will take place on December 11, 2013, at 8:30 a.m. (AKST). For information on how to participate, please see SUPPLEMENTARY INFORMATION, below.

FOR FURTHER INFORMATION CONTACT: Chair, Federal Subsistence Board, c/o U.S. Fish and Wildlife Service, Attention: Gene Peltola, Office of Subsistence Management; (907) 786-3888; or subsistence@fws.gov. For questions specific to National Forest System lands, contact Steve Kessler, Regional Subsistence Program Leader, USDA, Forest Service, Alaska Region; (907) 743-9461; or skessler@fs.fed.us.

SUPPLEMENTARY INFORMATION: Title VIII of the Alaska National Interest Lands Conservation Act (16 U.S.C. 3111-3126) sets forth the provisions of the Federal Subsistence Management Program. This program provides a priority for taking of fish and wildlife resources for subsistence uses on Federal public lands and waters in Alaska. The Federal Subsistence Board, which includes public and private members, administers the program supported by Federal Subsistence Regional Advisory Councils, which represent 10 subsistence resource regions in Alaska. The Councils provide a forum for rural residents with personal knowledge of local conditions and resource requirements to have a meaningful role in the subsistence management of fish and wildlife on Federal public lands in Alaska. The Board will engage in outreach efforts for this notice to Tribes and Alaska Native corporations to ensure they are advised of the mechanisms by which they can participate.

In accordance with the requirements of the Federal Advisory Committee Act, 5 U.S.C. App., the Western Interior Alaska Federal Subsistence Regional Advisory Council will meet to review State and Federal wildlife proposals and fisheries resource monitoring plans and to form other recommendations on fish and wildlife issues. This meeting is a follow-up to the Council's November 6-8, 2013, meeting, which did not achieve a required quorum, to make recommendations on changes to the regulations for the subsistence taking of wildlife to the Federal Subsistence Board and to address subsistence issues concerning the region. To participate, call toll free 1-877-638-8165. When prompted, enter the following passcode: 9060609.

Authority: 16 U.S.C. 3, 472, 551, 668dd, 3101-3126; 18 U.S.C. 3551-3586; 43 U.S.C. 1733.

Dated: November 22, 2013.
Gene Peltola,
Assistant Regional Director, U.S. Fish and Wildlife Service, Acting Chair, Federal Subsistence Board.
Dated: November 25, 2013.
Steve Kessler,
Subsistence Program Leader, USDA-Forest Service.

[FR Doc. 2013-29152 Filed 12-4-13; 8:45 am]

BILLING CODE 3410-11-4310-55-P